DEPARTMENT OF COMMERCE

Foreign-Trade Zones Board

Dockets 62-2005 and 63-2005

Foreign-Trade Zone 61 -- San Juan, Puerto Rico, Expansion of Facilities -- Subzones 61D and 61E, Correction

The Federal Register notice (70 FR 74290, 12/15/05) describing the request submitted by the Puerto Rico Trade & Export Company, grantee of FTZ 61, requesting authority to expand the subzones at the Merck, Sharpe & Dohme Quimica De Puerto Rico, Inc. (MSDQ), facilities in Arecibo (Subzone 61D, Docket 62-2005) and Barceloneta (Subzone 61E, Docket 63-2005) areas, is corrected as follows:

Paragraph 8 should read “A copy of the application and accompanying exhibits will be available during this time for public inspection at the address Number 1 listed above, and at the offices of the Puerto Rico Trade & Export Company, International Trade Center, San Juan Foreign-Trade Zone No. 61 Administration Building, State Rd. No. 165, km. 2.0, Pueblo Viejo Sector, Barrio Amelia, Guaynabo, Puerto Rico, 00965.”

Dated: January 10, 2006.
Dennis Puccinelli,
Executive Secretary.

[FR Doc. E6-474 Filed 1-17-06; 8:45 am]

BILLING CODE 3510-DS-S